DEPARTMENT OF HEALTH AND HUMAN SERVICES

Agency for Healthcare Research and Quality

Request for Tools and Methods Used by Small- and Medium-Sized Practices for Analyzing and Redesigning Workflows Either Before or After Health Information Technology Implementation

AGENCY: Agency for Healthcare Research and Quality (AHRQ), HHS.

ACTION: Notice of request for information.

SUMMARY: This notice announces the intention of the Agency for Healthcare Research and Quality (AHRQ) to request information from (1) small- and medium-sized practices about how they study or redesign their workflow, including information on the use of tools and methods for studying workflow, and (2) others (e.g., experts, vendors, professional associations) that have developed, implemented and used tools and methods for studying workflow in the context of health IT implementation and use. Workflow is defined as the way work is performed and patient-related information is communicated within small- and medium-sized practices and between those practices and external organizations such as community pharmacies and local hospitals. It is our understanding that there is currently no standard description of workflows for care processes that can be used to guide decisions of where and how to incorporate health information technology. This Request for Information is part of a three-pronged effort to scan the environment, the literature and knowledgeable and interested parties to produce a useful list of resources that may assist small- and medium-sized medical practices and clinics to consider the utility and potential effectiveness of incorporating health IT into the way they practice and communicate patient information. The responses to this request for information will be considered for reference and possible incorporation into an electronic toolkit to be made available on the Internet to assist small- and medium-sized practices in analyzing or redesigning workflow either before or after implementation of one or more health IT applications. All responses to this request for information are voluntary.

DATES: Submit comments on or before August 24, 2009.

ADDRESSES: Electronic responses are preferred and should be addressed to: WorkflowRFI@ahrq.hhs.gov. Non-electronic responses will also be accepted. Please send to: Teresa Zayas-Cabán, Senior Manager, Health IT, Agency for Healthcare Research and Quality, Attention: Workflow RFI Responses, 540 Gaither Road, Room 6115, Rockville, MD 20850, Phone: 301-427-1586.

FOR FURTHER INFORMATION CONTACT: Teresa Zayas-Cabán, e-mail: Teresa.ZayasCaban@AHRQ.hhs.gov, Web site of the project on “Incorporating Health Information Technology Into Workflow Redesign”: http://cqpi.engr.wisc.edu/withit_home.

SUPPLEMENTARY INFORMATION:

Submission Criteria

To assist small- and medium-sized medical practices or clinics considering implementation of any health IT, AHRQ is requesting information about tools, methods, technologies, and data reporting procedures that may be used to analyze and possibly improve the delivery of health care in such settings. From our perspective, these settings would include practices for which investment in health IT is financially burdensome and therefore regarded as high risk. While AHRQ welcomes all comments on the above described subject, the agency is particularly interested in obtaining information and opinions from small- and medium-sized healthcare practices that have implemented or are considering implementing health information technology as well as information and opinions from workflow or health IT experts, vendors, professional associations, and others that have developed and/or used workflow analysis or redesign tools. In descriptions of workflow analytic tools or approaches and health IT that have been deployed successfully or unsuccessfully, it would be helpful to receive basic information about the characteristics of the practice(s) or clinic(s) where particular tools, approaches, or health IT have been used including:

• The number of physicians and providers (physician assistants or nurse practitioners) in the practice or clinic.

• The total number of staff (e.g., nurses, medical assistants, receptionists, educators) in the practice or clinic.

• The number of patient visits the practice or clinic had in 2008.

• The medical or surgical specialties within the practice or clinic. Specialties can include: family medicine, internal medicine, pediatrics, geriatrics, hematolology, oncology, cardiology, pulmonology, endocrinology, gastroenterology, rheumatology, ophthalmology, obstetrics and gynecology, nephrology, infectious diseases, physical medicine and rehabilitation, dermatology, neurosurgery, general surgery, pediatric surgery, cardiovascular surgery, thoracic surgery, vascular surgery, transplant surgery, urology, plastic surgery, orthopedic surgery, otolaryngology, and anesthesiology.

• Any ancillary services located on-site at the practice or clinic. Examples include: laboratory, radiology, physical therapy, occupational therapy, speech therapy, pharmacy.

With regard to health IT, please indicate what specific health IT applications and software have been used in particular settings; e.g.: electronic medical records (EMRs) (i.e., electronic records of health-related information on individual patients that may be created, gathered, managed, and consulted by authorized clinicians and staff within a single health care organization), electronic health records (EHRs) (i.e., electronic records of health-related information on individual patients that conform to nationally recognized interoperability standards and that may be created, managed, and consulted by authorized clinicians and staff across more than one health care organization), computerized provider order entry (or CPOE), e-prescribing, digital imaging, telemedicine, and others. Please include information regarding:

• Functionality of each health IT application (i.e., what you use them for).

• How long each health IT application has been in use.

With regard to workflow analysis and redesign tools, please tell us about any tools, methods, technologies, or data reports to analyze or redesign the way work is done and information flows in your practice or clinic before or after health IT implementation. Examples of tools include process analysis, flowcharting, task analysis and lean management. Other examples include using data reports from a health IT application to analyze or understand processes and workflow.

For each tool, method, technology or data report we would appreciate the following information:

• Name and acronym of the tool, method, technology, or data report.

• Authors, sources and/or references.

• Background about the tool, method, technology, or data report; i.e., how did you learn about it.

• Intended purpose; i.e., what it was used for and at what point it was used during the redesign and/or implementation process.

• How the tool, method, technology, or data report was used. Please describe the procedure or steps for using it as well as who participated in its use.

• Resources needed to use the tool, method, technology, or data report (e.g., expertise, time, software).

• Information about reliability and validity of the tool, method, technology, or data report, if applicable.

• Advantages and disadvantages of the tool, method, technology, or data report.

• How useful, overall, the tool, method, technology, or data report is.

• How easy or difficult is it to use the tool, method, technology, or data report.

Additionally, please provide information that you think will assist our target audience to avoid pitfalls of complicated or inappropriate tools and software. If you are willing and authorized to share any referenced tools, please submit them with your response along with instructional documents related to the tool and its use, including any restrictions or prerequisite permissions necessary for use by others.

In describing the impact of health IT on organization of work and workflow, a discussion of the following topics would provide valuable information for small- and medium-sized practices or clinics:

• Support that was available during the health IT implementation (e.g., additional staff, overtime, additional time to complete tasks, technical support, internal versus external support).

• Training provided to the users including the duration of the training (e.g., number of days of training per end user), and the methods used to train users (e.g., `train-the-trainer,' super users, lecture, hands-on training).

• Discussion of successful or unsuccessful interfacing of the health IT application(s) is/are interfaced with each other and/or other IT, such as IT applications of ancillary services (e.g., lab system).

• Discussion of any formal evaluation of the health IT implementation was conducted and any measures used for the evaluation (e.g., impact on job satisfaction, efficiency, workload, decisionmaking accuracy, quality of care, cost).

In assessing the implementation of health IT, comments about the impact of particular health IT applications on different domains of a practice or clinic are requested. Thus, we would appreciate comments on how health IT has impacted or supports:

• Communication among practice or clinic staff (e.g., physician, nurse, medical assistant, physician assistant, receptionist, technician).

• Coordination of care among practice or clinic staff (e.g., physician, nurse, medical assistant, physician assistant, receptionist, technician).

• Information flow between the practice or clinic and external healthcare organizations (e.g., community pharmacies, imaging centers, local hospitals).

• Clinicians' work during patient visit.

• Clinicians' thought processes as they care for patients.

• Access to patient-related information.

Additional Submission Instructions

Responders should identify any information that they believe is confidential commercial information. Information reasonably so labeled will be protected in accordance with the FOIA, 5 U.S.C. 552(b)(4), and will not be released by the agency in response to any FOI requests. It will not be incorporated directly into any requirements or standards that the agency may develop as a result of this inquiry regarding useful tools or information for small- and medium-sized medical practices regarding implementation of health information technology in such practices.

Dated: June 17, 2009.
Carolyn M. Clancy,
AHRQ, Director.

[FR Doc. E9-14947 Filed 6-24-09; 8:45 am]

BILLING CODE 4160-90-P